DEPARTMENT OF TRANSPORTATION

Federal Aviation Administration

Notice to Manufacturers of Airport In-Pavement Stationary Runway Weather Information Systems

AGENCY: Federal Aviation Administration (FAA), U.S. DOT.

ACTION: Notice to Manufacturers of In-Pavement Stationary Runway Weather Information Systems.

SUMMARY: Projects funded under the Airport Improvement Program (AIP) must meet the requirements of 49 U.S.C. 50101, Buy American Preferences. The Federal Aviation Administration (FAA) is considering issuing waivers to foreign manufacturers of Active or Passive In-Pavement Stationary Runway Weather Information Systems that meet the requirements of FAA Advisory Circular (AC) 150/5220-30, Airport Winter Safety and Operations. This notice requests information from manufacturers of systems meeting the technical requirements to determine whether a waiver to the Buy American Preferences should be issued.

FOR FURTHER INFORMATION CONTACT: Ms. Nancy S. Williams, Airports Financial Assistance, APP 501, Room 619, FAA, 800 Independence Avenue SW., Washington, DC 20591, Telephone (202) 267-3831.

SUPPLEMENTARY INFORMATION: The Federal Aviation Administration (FAA) manages a Federal grant program for airports called the Airport Improvement Program (AIP). AIP grant recipients must follow 49 U.S.C. 50101, Buy American Preferences.

Under 49 U.S.C. 50101(b)(3), the Secretary of Transportation may waive the Buy American Preference requirement if the goods are not produced in a sufficient and reasonably available amount or are not of a satisfactory quality.

The purpose of this notice is to request manufacturers of both passive and active in-pavement runway surface condition sensor systems, both domestic and foreign, to advise FAA of the system that they manufacture and whether it can meet the FAA Advisory Circular technical requirements. The detailed instructions for submitting the qualifications statement, including forms, may be found on the FAA Web site at: http://www.faa.gov/airports/aip/procurement/federal_contract_provisions/ at the tab entitled, In-Pavement Runway Surface Condition Sensor Systems Request For Qualifications.

The FAA wants to determine if there is sufficient quantity of domestic manufacturers capable of meeting the FAA technical requirements. If the FAA cannot find that there are USA manufacturers, it will issue a nationwide waiver to the foreign manufacturers identified as being capable of meeting the technical requirements.

Technical Requirements: FAA Advisory Circular (AC) 150/5220-30, Airport Winter Safety and Operations recommends that in-pavement runway sensor systems comply with the performance and installation requirements of SAE Aerospace Recommended Practice 5533, Stationary Runway Weather Information System (In-pavement). The SAE specification is available for purchase at http://www.sae.org. Because the recommendations in an Advisory Circular become mandatory for airports using AIP grant funds, an in-pavement runway surface condition sensor system project that includes any AIP grant funding must meet the requirements of SAE ARP5533.

After review, the FAA may issue a nationwide waiver to Buy American Preferences for foreign manufacturers or United States manufacturers that do not meet the Buy American Preference requirements. Waivers will not be issued for manufacturers that do not fully meet the technical requirements. This “nationwide waiver” allows equipment to be used on airport projects without having to receive separate project waivers. Having a nationwide waiver allows projects to start quickly without have to wait for the Buy American analysis to be completed for every project, while still assuring the funds used for airport projects under the Act are being directed to U.S. manufacturers.

Items that have been granted a “nationwide waiver” can be found on the FAA Web site at: http://www.faa.gov/airports/aip/procurement/federal_contract_provisions/ at the tab entitled, Equipment Meeting Buy American Requirements.

Issued in Washington, DC, October 11, 2011.
Frank J. San Martin,
Manager, Airports Financial Assistance Division.

[FR Doc. 2011-26791 Filed 10-27-11; 8:45 am]

BILLING CODE 4910-13-P